DEPARTMENT OF THE INTERIOR

Fish and Wildlife Service

Proposed Low-Effect Habitat Conservation Plan for the Offices at Parkshore, Folsom, Sacramento County, CA

AGENCY: Fish and Wildlife Service, Interior.

ACTION: Notice of availability and receipt of an application.

SUMMARY: Mark III Engineering Contractors of Sacramento, California (the Applicant), has applied to the Fish and Wildlife Service (Service) for a 5-year incidental take permit for one covered species pursuant to section 10(a)(1)(B) of the Endangered Species Act of 1973, as amended (Act). The application addresses the potential for “take” of the threatened valley elderberry longhorn beetle (Desmocerus californicus dimorphus) associated with grading a 6.48-acre project site and construction of the Offices at Parkshore, a 9-building office complex off Parkshore Drive in the Lake Forest Technical Center, Folsom, Sacramento County, California. The Applicant would implement a conservation program to minimize and mitigate for the project activities, as described in the Low-Effect Habitat Conservation Plan for the Offices at Parkshore (Plan).

We request comments on the permit application and Plan, and on the Service's preliminary determination that the Plan qualifies as a “low-effect” habitat conservation plan, eligible for a Categorical Exclusion under the National Environmental Policy Act of 1969, as amended (NEPA). The basis for the Categorical Exclusion determination is discussed in the Service's Environmental Action Statement (EAS), which is also available for public review.

DATES: Written comments should be received on or before October 25, 2006.

ADDRESSES: Please address written comments to Lori Rinek, Chief, Conservation Planning and Recovery Division, Fish and Wildlife Service, Sacramento Fish and Wildlife Office, 2800 Cottage Way, Room W-2605, Sacramento, California 95825. Written comments may be sent by facsimile to (916) 414-6713.

FOR FURTHER INFORMATION CONTACT: Holly Herod, Chief, Sacramento Valley Branch, or Nina Bicknese, Senior Biologist, at the Sacramento Fish and Wildlife Office; telephone: (916) 414-6600.

SUPPLEMENTARY INFORMATION:

Availability of Documents

Copies of the permit application, Plan, and EAS can be obtained from the individuals named above (see FOR FURTHER INFORMATION CONTACT). Copies of these documents are available for public inspection, by appointment, during regular business hours, at the Sacramento Fish and Wildlife Office (see ADDRESSES).

Background Information

Section 9 of the Act and its implementing Federal regulations prohibit the “take” of fish or wildlife species listed as endangered or threatened. Take is defined under the Act to include the following activities: To harass, harm, pursue, hunt, shoot, wound, kill, trap, capture or collect listed animal species, or to attempt to engage in such conduct. However, under section 10(a)(1)(B) of the Act, the Service may issue permits to authorize incidental take of listed species. “Incidental take” is defined by the Act as take that is incidental to, and not the purpose of, carrying out an otherwise lawful activity. Regulations governing incidental take permits for endangered and threatened species, respectively, are found in the Code of Federal Regulations at 50 CFR 17.22 and 50 CFR 17.32.

The Applicant is seeking a permit for take of one federally listed species, the threatened valley elderberry longhorn beetle, (Desmocerus californicus dimorphus), which is referred to as the “covered species” in the Plan. The Applicant would receive “No Surprises” assurances for this species under the Service's “No Surprises” regulations (50 CFR 17.22(b)(5) and 17.32(b)(5)). No other species are included in the Plan.

The Applicant proposes to construct eight one-story office buildings and a single two-story office building, which would collectively provide 74,435 square feet of new office space. Site improvements would include two vehicular driveways, a 377-space asphalt parking lot, sidewalks, pedestrian walkways, underground utilities, and landscaping. The 6.48-acre project site is the last undeveloped portion of an established office park. The project site supports degraded remnants of scrub and oak woodland vegetation, including habitat (e.g., elderberry shrubs) for the beetle. Elderberry plants are present in three locations in the project site. Thirty-nine of these elderberry plants exhibit stems with basal diameters equal to or greater than one inch, which is a sufficient size to be habitat for the beetle. An inventory identified a single beetle exit-hole, indicating that the species is likely present in the project site. Resident elderberry plants would be permanently removed from the project site to accommodate the proposed project.

The Applicant proposes to avoid and minimize take and associated adverse project impacts to the beetle by fully implementing their Plan. The Applicant will mitigate the impacts of taking the beetle by transplanting the 39 elderberry shrubs from the project site to a Service-approved conservation bank, and by purchasing 11 habitat credits for the beetle at the same conservation bank. Each habitat credit includes an established ratio of elderberry seedlings and native riparian plant seedlings. Transplanting outside of the dormant period for elderberry shrubs, November 16 to February 15, would increase the likelihood of adult beetles and larvae being killed or injured. Therefore, the Applicant has agreed to purchase 12 additional habitat credits from the conservation bank (i.e., a total of 23 credits) if the elderberry shrubs are transplanted during the active growing season. The Applicant's Plan also describes measures and funding sources that ensure the elements of the Plan would be implemented in a timely manner, actions to be taken if unforeseen events occur, and other required elements.

The Service's proposed action consists of approving the Applicant's Plan and issuance of an incidental take permit for the Applicant's project. As required by the Act, the Applicant's Plan also considered alternatives to the take considered under the proposed action. Under the No Action Alternative, no permit would be issued, the office buildings and parking lot would not be built, and no take would occur. Under the Reduced Take Alternative, the office buildings and parking lot would be built, but the size and scope would be reduced. This alternative would allow some elderberry shrubs to remain on the project site with fewer elderberry shrubs transplanted to the Service-approved conservation bank, thus reducing take below the level anticipated for the proposed action.

National Environmental Policy Act

As discussed in the EAS, the Service has made a preliminary determination that approval of the proposed Plan and issuance of the permit would qualify as a Categorical Exclusion under NEPA, as provided by Federal regulations (40 CFR 1500.5(k), 1507.3(b)(2), 1508.4) and the Department of Interior Manual (516 DM 2 and 516 DM8). The EAS found that the proposed Plan qualifies as a “low-effect” habitat conservation plan, as defined by the Service's Habitat Conservation Planning Handbook (November 1996). Determination of low-effect habitat-conservation plans is based on the following criteria: (1) Implementation of the Plan would result in minor or negligible effects on federally listed, proposed, and candidate species and their habitats; (2) implementation of the Plan would result in minor or negligible effects on other environmental values or resources; (3) impacts of the Plan, considered together with the impacts of other past, present and reasonably foreseeable similarly situated projects would not result, over time, in cumulative effects to environmental values or resources which would be considered significant. Based upon the preliminary determinations in the EAS, the Service does not intend to prepare further NEPA documentation. The Service will consider public comments when making the final determination on whether to prepare an additional NEPA document on the proposed action.

Public Review

The Service provides this notice pursuant to section 10(c) of the Act and the NEPA public-involvement regulations (40 CFR 1500.1(b), 1500.2(d), and 1506.6). The Service will evaluate the permit application, including the Plan, and comments submitted thereon to determine whether the application meets the requirements of section 10(a) of the Act. If the requirements are met, the Service will issue a permit to Mark III Engineering Contractors for the incidental take of the beetle during construction of the Offices at Parkshore. The Service will make the final permit decision no sooner than 30 days from the date of this notice.

Dated: September 19, 2006.
David L. Harlow,
Acting Field Supervisor, Sacramento Fish and Wildlife Office, Sacramento, California.

[FR Doc. 06-8161 Filed 9-22-06; 8:45 am]

BILLING CODE 4310-55-P